DEPARTMENT OF ENERGY

Federal Energy Regulatory Commission

[Project No. 13292-000]

Whitman River Dam, Inc.; Notice of Preliminary Permit Application Accepted for Filing and Soliciting Comments, Motions To Intervene, and Competing Applications

February 3, 2009.

Whitman River Dam, Inc. (WRD) filed an application on September 26, 2008, pursuant to section 4(f) of the Federal Power Act, proposing to study the feasibility of the Round Meadows Pond Dam Hydroelectric Project, which would be located in the town of Westminster on the Whitman River in Worchester County, Massachusetts.

The proposed Round Meadows Pond Dam Hydroelectric Project would utilize WRD's Round Meadows Pond Dam and would consist of: (1) An existing 250-foot-long, 5-foot-high earthen embankment and masonry dam and spillway, (2) an existing intake structure, (3) a proposed 1,400-foot-long, 16-inch-diameter metal penstock; (4) a proposed powerhouse which would contain one generating unit with a total installed capacity of 120 kW, (5) a proposed 100-foot-long, 4.1 kV transmission line connecting to existing power lines, and (6) appurtenant facilities. The project would have an annual generation of 0.6 gigawatts-hours, which would be sold to a local utility.

Applicant Contact: Mr. Stephen C. Doret, P.E., 23 Mill Road, Westborough, MA 01581; phone: (508) 366-5833. FERC Contact: Tom Papsidero, (202) 502-6002.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13292) in the docket number field to access the document. For assistance, call toll-free 1-866-208-3372.

Kimberly D. Bose,
Secretary.

[FR Doc. E9-2695 Filed 2-9-09; 8:45 am]

BILLING CODE 6717-01-P